DEPARTMENT OF HEALTH AND HUMAN SERVICES

Centers for Disease Control and Prevention

[Docket No. CDC-2024-0040, NIOSH-063-E]

National Institute for Occupational Safety and Health; Human Factors Considerations for the Fire Fighter Fatality Investigation and Prevention Program

AGENCY: Centers for Disease Control and Prevention (CDC), Department of Health and Human Services (HHS).

ACTION: Request for information.

SUMMARY: The Centers for Disease Control and Prevention's (CDC) National Institute for Occupational Safety and Health (NIOSH), in the Department of Health and Human Services, requests feedback about its Fire Fighter Fatality Investigation and Prevention Program (FFFIPP) investigation and report process for traumatic injuries. NIOSH is interested in how human factors might be considered during investigations including but not limited to communication, team dynamics, psychological stress, and safety culture, and how these factors impact decision-making during responses. If applicable, information will be used to improve reporting templates and processes to provide a holistic lens into the causes and prevention of line-of-duty deaths (LODD).

DATES: Comments must be received by July 22, 2024.

ADDRESSES: Comments may be submitted through either of the following two methods:

• Federal eRulemaking Portal: http://www.regulations.gov (follow the instructions for submitting comments), or

• By Mail: NIOSH Docket Office, Robert A. Taft Laboratories, MS C-34, 1090 Tusculum Avenue, Cincinnati, Ohio 45226-1998.

Instructions: All written submissions received in response to this notice must include the agency name (Centers for Disease Control and Prevention, HHS) and docket number (CDC-2024-0040, NIOSH-063-E) for this action. All relevant comments, including any personal information provided, will be posted without change to http://www.regulations.gov.

FOR FURTHER INFORMATION CONTACT: Emily Haas, 626 Cochrans Mill Rd, Pittsburgh, PA 15236; Telephone (412) 386-4627 (this is not a toll-free number); Email: NIOSHFireTrauma@cdc.gov.

SUPPLEMENTARY INFORMATION: The NIOSH FFFIPP conducts independent investigations of firefighter LODD and recommends ways to prevent deaths and traumatic injuries. Since its inception in 1998, the NIOSH FFFIPP has held periodic meetings with the fire service community and interested parties to seek input about the program. These meetings have been an important component of the program and are vital to ensure the program is meeting the needs and expectations of those it serves. The FFFIPP has posted the results of these periodic meetings on its website at: https://www.cdc.gov/niosh/fire/abouttheprogram/ourworkreviewed/ourworkreviewed.html.

Input received from these meetings and from individuals has emphasized the need to consider factors beyond the physical environment in which response activities occur. As examples, effective communication and team dynamics, psychological stress and resilience, organizational leadership, and safety culture may impact decision-making, task execution, and job performance. However, the FFFIPP program serves as a public health effort; therefore, recommendations do not and cannot enforce compliance with state or federal job safety and health standards or determine fault or place blame on fire departments or individual firefighters. The purpose of this request for information (RFI) is to ascertain (1) the public's interest and need for NIOSH to incorporate human factors considerations into LODD investigations; (2) specific human factors elements that should be considered; (3) methods that can be employed during investigations to collect, analyze, and document this information through reliable quantitative and qualitative approaches; and (4) ways to incorporate human factors findings and recommendations into reports without placing blame on fire departments or firefighters. Information related to human factors in LODD investigations may include but is not limited to:

• Considerations around communication, including team dynamics and leadership communication

• Potential for environmental elements to impact cognitive function (e.g., distraction)

• Operational stressors to be considered

• Ways to retroactively assess emotional and psychological stress

• Ways to retroactively assess physiological stress and resilience (e.g., sleep deprivation and fatigue)

• Safety culture

• Components of risk profile narratives

• Organizational leadership practices

• Research needs and social science or psychological methods to objectively collect this information

• Methods to integrate this information into reports without placing blame (e.g., identifying systematic issues that drive or allow behaviors, actions, and decisions)

LODD are complex events that are affected by many interdependent factors. These considerations or factors might vary depending on whether the fire department is serving a rural, urban, suburban, or wildland-urban interface area; is career, volunteer, or combination; and the work schedule and shifts of the responding firefighters. These aspects, among others, can be recognized when responding with feedback.

NIOSH plans to review and assess the public comments and information provided to determine how, if applicable, the FFFIPP could be updated to incorporate human factors considerations into LODD investigations. Additional information is available on the NIOSH FFFIPP—About the Program Page (https://www.cdc.gov/niosh/fire/abouttheprogram/abouttheprogram.html). NIOSH will update this page and investigation processes as necessary to be consistent with the assessment of the information obtained from this RFI and other means of information-gathering.

To reiterate, this RFI is intended to announce the opportunity for the public to provide NIOSH with information about considerations and approaches to assess human factors and, if applicable, inclusion in its FFFIPP LODD investigation and reporting processes for traumatic injuries. Information related to human factors and the fire service in the following areas is especially desired: the need for this information to be collected, specific human factors elements that should be considered, social science and psychological methods that could be employed during investigations, and objective reporting recommendations.

John J. Howard,
Director, National Institute for Occupational Safety and Health, Centers for Disease Control and Prevention, Department of Health and Human Services.

[FR Doc. 2024-11059 Filed 5-20-24; 8:45 am]

BILLING CODE 4163-18-P